DEPARTMENT OF AGRICULTURE

Forest Service

Fresno County Resource Advisory Committee

AGENCY: Forest Service, USDA.

ACTION: Notice of meeting.

SUMMARY: The Fresno County Resource Advisory Committee will be meeting in Prather, California, January 12, 2011 and in Clovis, California, January 26, 2011. The purpose of the January 12 meeting will be to review new project proposals that were submitted by the January 7, 2011 deadline. The purpose of the meeting on January 26 will be to vote and approve projects to be funded under the Secure Rural Schools and Community Self-Determination Act of 2000 (Pub. L. 110-343).

DATES: The meeting will be held on January 12, 2011 from 6 p.m. to 8:30 p.m. in Prather, CA and January 26, 2011 from 6 p.m. to 8:30 p.m. in Clovis, CA.

ADDRESSES: The meeting on January 12th will be held at the High Sierra Ranger District, 29688 Auberry Rd. Prather, CA. The meeting on January 26th will be held at the Sierra National Forest Supervisor's Office, 1600 Tollhouse Rd. Clovis, CA. Send written comments to Darcy Brown, Fresno County Resource Advisory Committee Coordinator, do Sierra National Forest, High Sierra Ranger District, 29688 Auberry Road, Prather, CA 93651 or electronically to dlbrown02@fs.fed.us.

FOR FURTHER INFORMATION CONTACT: Darcy Brown, Fresno County Resource Advisory Committee Coordinator, (559) 855-5355 ext. 3374.

SUPPLEMENTARY INFORMATION: The meeting is open to the public. Committee discussion is limited to Forest Service staff and Committee members. However, persons who wish to bring Payments to States Fresno County Title II project matters to the attention of the Committee may file written statements with the Committee staff before or after the meeting. Final project submissions are due by January 7, 2011 to the Forest Service. Agenda items to be covered include: (1) Review project proposals and (2) Vote on projects to be funded.

Dated: November 8, 2010.
Ray Porter,
District Ranger.

[FR Doc. 2010-28799 Filed 11-16-10; 8:45 am]

BILLING CODE 3410-11-M